FEDERAL COMMUNICATIONS COMMISSION

47 CFR Part 73

[DA 25-696; MB Docket No. 25-135; FR ID 307891]

Radio Broadcasting Services; Matador, Texas

AGENCY: Federal Communications Commission.

ACTION: Final rule.

SUMMARY: This document amends the Table of FM Allotments, of the Federal Communications Commission's (Commission) rules, by substituting Channel 276C2 for vacant Channel 244C2 and Channel 252C3 for vacant Channel 276C3 at Matador, Texas. A staff engineering analysis determines that Channel 276C2 can be allotted to Matador, consistent with the minimum distance separation requirements of the Commission's rules with a site restriction of 27 kilometers (16.8 miles) west of the community. The reference coordinates are 33-56-19 NL and 101-06-08 WL. The staff engineering analysis indicates that Channel 252C3 can be allotted to Matador consistent with the minimum distance separation requirements of the Commission's rules, with a site restriction of 12 kilometers (7.5 miles) southeast of the community. The reference coordinates are 33-57-50 NL and 100-42-07 WL.

DATES: Effective September 22, 2025.

FOR FURTHER INFORMATION CONTACT: Rolanda F. Smith, Media Bureau, (202) 418-2054, Rolanda-Faye.Smith@fcc.gov.

SUPPLEMENTARY INFORMATION: This is a synopsis of the Commission's Report and Order, MB Docket No. 25-135, adopted August 7, 2025 and released August 7, 2025. The full text of this Commission decision is available online at https://apps.fcc.gov/ecfs/. The full text of this document can also be downloaded in Word or Portable Document Format (PDF) at https://www.fcc.gov/edocs. This document does not contain information collection requirements subject to the Paperwork Reduction Act of 1995, Public Law 104-13.

The Commission will send a copy of the Report and Order in a report to be sent to Congress and the Government Accountability Office pursuant to the Congressional Review Act, see 5 U.S.C. 801(a)(1)(A).

List of Subjects in 47 CFR Part 73

Radio, Radio broadcasting, Television.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend table 1 to paragraph (b) under Texas, by revising the entry for “Matador” to read as follows:

§ 73.202 Table of Allotments.

* * * * *

(b) Table of FM Allotments.

Table 1 to Paragraph (b)
[U.S. States]
| Channel No.
* * * * *
Texas
* * * * *
Matador | 252C3, 276C2
* * * * *

[FR Doc. 2025-15514 Filed 8-13-25; 8:45 am]

BILLING CODE 6712-01-P